DEPARTMENT OF DEFENSE

Office of the Secretary

Department of Defense Draft Selection Criteria for Closing and Realigning Military Installations Inside the United States

AGENCY: Office of the Deputy Under Secretary of Defense (Installations and Environment), DoD.

ACTION: Extend comment period on draft selection criteria.

SUMMARY: In the December 23, 2003, issue of the Federal Register (68 FR 74221), the Department of Defense published the draft selection criteria to be used by the Department in making recommendations for the closure or realignment of military installations inside the United States. This notice extends the comment period beyond the deadline previously published and clarifies that those comments must be received at the address shown below by 5 p.m. Eastern Standard Time (EST) on January 30, 2004, to be considered in the formulation of the final criteria.

DATES: Comments should be received at the Department of Defense at the address shown below by 5 p.m. on January 30, 2004, to be considered in the formulation of the final criteria.

ADDRESSES: Interested parties should submit written comments to: Office of the Deputy Under Secretary of Defense (Installations & Environment), Attn: Mr. Peter Potochney, Director, Base Realignment and Closure, Room 3D814, The Pentagon, Washington, DC 20301-3300. Please cite this Federal Register announcement in all correspondence. Interested parties may also forward their comments via facsimile at 703-695-1496.

FOR FURTHER INFORMATION CONTACT: Mr. Mike McAndrew, Base Realignment and Closure Office, ODUSD(I&E), (703) 614-5356.

Dated: January 24, 2004.
Patricia L. Toppings,
Alternate OSD Federal Register Liaison Officer, Department of Defense.

[FR Doc. 04-1588 Filed 1-21-04; 3:37 pm]

BILLING CODE 5001-06-M